DEPARTMENT OF HOMELAND SECURITY

Federal Emergency Management Agency

44 CFR Part 67

[Docket ID FEMA-2010-0003; Internal Agency Docket No. FEMA-B-1125]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before August 23, 2010.

ADDRESSES: The corresponding preliminary Flood Insurance Rate Map (FIRM) for the proposed BFEs for each community is available for inspection at the community's map repository. The respective addresses are listed in the table below.

You may submit comments, identified by Docket No. FEMA-B-1125, to Kevin C. Long, Acting Chief, Engineering Management Branch, Mitigation Directorate, Federal Emergency Management Agency, 500 C Street, SW., Washington, DC 20472, (202) 646-2820, or (e-mail) kevin.long@dhs.gov.

FOR FURTHER INFORMATION CONTACT: Kevin C. Long, Acting Chief, Engineering Management Branch, Mitigation Directorate, Federal Emergency Management Agency, 500 C Street, SW., Washington, DC 20472, (202) 646-2820, or (e-mail) kevin.long@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Lawrence County, Illinois, and Incorporated Areas
Brushy Creek | Approximately 100 feet downstream of North 1550th Street (County Route 5 Bridge) | None | +437 | Unincorporated Areas of Lawrence County.
| Approximately at the downstream side of North 1550th Street (County Route 5 Bridge) | None | +437
Wabash River | Approximately 3.5 miles downstream of the Wabash Cannonball Railroad Bridge | None | +415 | City of St. Francisville.
| Approximately 0.5 mile downstream of the Wabash Cannonball Railroad Bridge | None | +417
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of St. Francisville
Maps are available for inspection at City Hall, 207 South 6th Street, St. Francisville, IL 62460.
Unincorporated Areas of Lawrence County
Maps are available for inspection at the Lawrence County Courthouse, 1100 State Street, Lawrenceville, IL 62439.
Marshall County, Kentucky, and Incorporated Areas
Barrett Branch (Backwater effects from Tennessee River) | At the confluence with Little Cypress Creek | +342 | +341 | Unincorporated Areas of Marshall County.
| Approximately 1,600 feet upstream of the confluence with Howard Branch | +342 | +341
Bee Creek | Approximately 1,250 feet downstream of KY-408 | None | +390 | City of Benton, Unincorporated Areas of Marshall County.
| Approximately 1,250 feet upstream of KY-408 | None | +405
Clear Creek (Backwater effects from Kentucky Lake) | From the confluence with Kentucky Lake to approximately 0.8 mile upstream of the confluence with Kentucky Lake | None | +375 | Unincorporated Areas of Marshall County.
Cypress Creek | Approximately 600 feet downstream of I-24 | None | +347 | City of Calvert City.
| Approximately 900 feet downstream of the confluence with Little John Creek | None | +348
Cypress Creek (Backwater effects from Tennessee River) | At the confluence with the Tennessee River | +342 | +341 | Unincorporated Areas of Marshall County.
| Approximately 0.7 mile downstream of Industrial Parkway (KY-1523) | +342 | +341
East Fork Clarks River | At the confluence with Strow Branch | None | +361 | City of Benton.
| Approximately 0.5 mile upstream of U.S. Route 641 (Main Street) | None | +365
Howard Branch (Backwater effects from Tennessee River) | From the confluence with Barrett Branch to approximately 0.6 mile upstream of the confluence with Barrett Branch | +342 | +341 | Unincorporated Areas of Marshall County.
Jonathan Creek (Backwater effects from Kentucky Lake) | From the confluence with Kentucky Lake to approximately 1.6 mile upstream of the confluence with Kentucky Lake | None | +375 | Unincorporated Areas of Marshall County.
Little Cypress Creek (Backwater effects from Tennessee River) | At the confluence with Cypress Creek | +342 | +341 | Unincorporated Areas of Marshall County.
| Approximately 0.4 mile upstream of U.S. Route 62 | +342 | +341
Little White Oak Creek (Backwater effects from Tennessee River) | From the confluence with White Oak Creek to approximately 1 mile upstream of the confluence with White Oak Creek | +342 | +341 | Unincorporated Areas of Marshall County.
Olive Branch (Backwater effects from Kentucky Lake) | From the confluence with Kentucky Lake to approximately 0.7 mile upstream of the confluence with Kentucky Lake | None | +375 | Unincorporated Areas of Marshall County.
Olive Branch Tributary 6 (Backwater effects from Kentucky Lake) | From the confluence with Olive Branch to approximately 0.6 mile upstream of the confluence with Olive Branch | None | +375 | Unincorporated Areas of Marshall County.
Ruff Creek (Backwater effects from Kentucky Lake) | From the confluence with Kentucky Lake to approximately 0.6 mile upstream of the confluence with Kentucky Lake | None | +375 | Unincorporated Areas of Marshall County.
Strow Branch | Approximately 500 feet downstream of West 1st Street | None | +362 | City of Benton, Unincorporated Areas of Marshall County.
| Approximately 300 feet downstream of KY-348 | None | +372
Strow Branch | Approximately 1,400 feet downstream of Allen Heights Drive | None | +407 | Unincorporated Areas of Marshall County.
| Approximately 500 feet upstream of Allen Heights Drive | None | +433
Strow Branch Tributary H | Approximately 1,000 feet downstream of Colonial Drive | None | +424 | Unincorporated Areas of Marshall County.
| Approximately 100 feet upstream of Colonial Drive | None | +447
Tennessee River | Approximately 0.7 mile downstream of the confluence with White Oak Creek | +342 | +340 | City of Calvert City, Unincorporated Areas of Marshall County.
| Just downstream of the Kentucky Dam | +345 | +343
Town Creek | Approximately 150 feet downstream of the railroad | None | +370 | City of Benton.
| Approximately 950 feet upstream of the railroad | None | +373
Town Creek | Approximately 1,300 feet upstream of Main Street | None | +398 | City of Benton.
| At the confluence with Town Creek Tributary E | None | +410
Town Creek Tributary C | At the confluence with Town Creek | None | +370 | City of Benton, Unincorporated Areas of Marshall County.
| Just downstream of KY-408 | None | +378
Town Creek Tributary C | Just downstream of KY-1445 | None | +389 | City of Benton, Unincorporated Areas of Marshall County.
| Approximately 200 feet downstream of Haltom Road | None | +436
Town Creek Tributary D | At the confluence with Town Creek | None | +398 | City of Benton.
| Approximately 800 feet upstream of Country Club Lane | None | +423
Town Creek Tributary E | Just upstream of Golf Course Road | None | +416 | Unincorporated Areas of Marshall County.
| Approximately 950 feet downstream of Town Creek Tributary F | None | +436
Town Creek Tributary F | Approximately 450 feet upstream of the confluence with Town Creek Tributary E | None | +449 | Unincorporated Areas of Marshall County.
| Approximately 1,100 feet upstream of the confluence with Town Creek Tributary E | None | +462
Tributary A East of Jackson Purchase Parkway | Approximately 300 feet downstream of the railroad | None | +371 | City of Benton, Unincorporated Areas of Marshall County.
| Approximately 450 feet downstream of Old Symsonia Road | None | +397
Tributary B East of Jackson Purchase Parkway | At the confluence with Tributary A East of Jackson Purchase Parkway | None | +389 | Unincorporated Areas of Marshall County.
| Approximately 350 feet downstream of Old Symsonia Road | None | +399
Tributary B West of Jackson Purchase Parkway | Approximately 350 feet downstream of the railroad | None | +364 | Unincorporated Areas of Marshall County.
| Just downstream of Symsonia Highway (KY-348) | None | +377
West Fork Ruff Creek (Backwater effects from Kentucky Lake) | From the confluence with Kentucky Lake to approximately 0.6 mile upstream of the confluence with Kentucky Lake | None | +375 | Unincorporated Areas of Marshall County.
White Oak Creek (Backwater effects from Tennessee River) | From the confluence with the Tennessee River to approximately 1.5 mile upstream of the confluence with the Tennessee River | +342 | +340 | Unincorporated Areas of Marshall County.
White Oak Creek Tributary 1 (Backwater effects from Tennessee River) | From the confluence with White Oak Creek to approximately 1,500 feet upstream of the confluence with White Oak Creek | +342 | +340 | Unincorporated Areas of Marshall County.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Benton
Maps are available for inspection at 1009 Main Street, Benton, KY 42025.
City of Calvert City
Maps are available for inspection at 861 East 5th Avenue, Calvert City, KY 42029.
Unincorporated Areas of Marshall County
Maps are available for inspection at 1101 Main Street, Benton, KY 42025.
Sherburne County, Minnesota, and Incorporated Areas
Big Elk Lake | Entire Shoreline | +968 | +969 | Unincorporated Areas of Sherburne County.
Briggs Lake | Entire Shoreline | +968 | +969 | Unincorporated Areas of Sherburne County.
Eagle Lake | Entire Shoreline | None | +928 | Unincorporated Areas of Sherburne County.
Elk Lake | Entire Shoreline | None | +953 | Unincorporated Areas of Sherburne County.
Elk River | Approximately 50 feet upstream of U.S. Route 10 | +878 | +877 | City of Becker, City of Big Lake, City of Elk River, Unincorporated Areas of Sherburne County.
| At Big Elk Lake | +968 | +969
Fremont Lake | Entire Shoreline | None | +977 | City of Zimmerman, Unincorporated Areas of Sherburne County.
Julia Lake | Entire Shoreline | +968 | +969 | Unincorporated Areas of Sherburne County.
Long Pond | Entire Shoreline | None | +966 | Unincorporated Areas of Sherburne County.
Rush Lake | Entire Shoreline | +968 | +969 | Unincorporated Areas of Sherburne County.
Trott Brook | At the Anoka County boundary | +880 | +879 | City of Elk River.
| Approximately 0.86 mile upstream of Brook Road | None | +943
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Becker
Maps are available for inspection at City Hall, 12060 Sherburne Avenue, Becker, MN 55308.
City of Big Lake
Maps are available for inspection at City Hall, 160 Lake Street North, Big Lake, MN 55309.
City of Elk River
Maps are available for inspection at City Hall, 13065 Orono Parkway, Elk River, MN 55330.
City of Zimmerman
Maps are available for inspection at City Hall, 12980 Fremont Avenue, Zimmerman, MN 55398.
Unincorporated Areas of Sherburne County
Maps are available for inspection at the Sherburne County Government Center, 13880 U.S. Route 10, Elk River, MN 55330.
Broome County, New York (All Jurisdictions)
Butler Brook | At the confluence with West Branch Delaware River | +986 | +993 | Village of Deposit.
| Approximately 200 feet upstream of Elm Street | +997 | +998
Chenango River | At the confluence with Susquehanna River Reach 1 | +843 | +846 | City of Binghamton, Town of Barker, Town of Chenango, Town of Dickinson, Town of Fenton, Village of Port Dickinson.
| Approximately 5,210 feet upstream of State Route 79 | +900 | +901
Choconut Creek | At the confluence with Susquehanna River Reach 1 | +829 | +832 | Town of Vestal.
| Approximately 1,875 feet upstream of Front Street | +831 | +832
Deer Lake | Entire shoreline within county | None | +1521 | Town of Windsor.
East Branch Nanticoke Creek | Approximately 3,026 feet downstream of Leekville Road | None | +975 | Town of Maine.
| Approximately 1,993 feet downstream of Leekville Road | None | +979
Little Snake Creek | At the confluence with Susquehanna River Reach 1 | +862 | +866 | Town of Conklin.
| Approximately 100 feet downstream of Milltown Drive | +865 | +866
Nanticoke Creek | At the confluence with Susquehanna River Reach 1 | +829 | +831 | Town of Maine, Town of Union, Village of Endicott.
| Approximately 1,400 feet upstream of Nanticoke Drive | +872 | +870
Oquaga Creek | At the confluence with West Branch Delaware River | +985 | +992 | Village of Deposit.
| Approximately 130 feet downstream of Mill Street | +991 | +992
Osborne Creek | At the confluence with the Chenango River | +869 | +872 | Town of Colesville, Town of Fenton.
| Approximately 2.5 miles upstream of Ballyhack Road | None | +1011
Page Brook | At the confluence with the Chenango River | +876 | +878 | Town of Fenton.
| Approximately 630 feet downstream of Rodgers Road | +877 | +878
Snake Creek | At the confluence with Susquehanna River Reach 1 | +864 | +868 | Town of Conklin.
| Approximately 1,800 feet upstream of Conklin Road | +867 | +868
Susquehanna River Reach 1 | Approximately 3.6 miles downstream of Old Vestal Avenue | +827 | +828 | City of Binghamton, Town of Binghamton, Town of Conklin, Town of Kirkwood, Town of Union, Town of Vestal, Village of Endicott, Village of Johnson City.
| Approximately 3.6 miles upstream of Cedarhurst Road | +867 | +872
Susquehanna River Reach 2 | Approximately 6.5 miles downstream of State Highway 17 | +912 | +918 | Town of Colesville, Town of Windsor, Village of Windsor.
| Approximately 890 feet upstream of Nineveh Bridge | +963 | +965
Tioughnioga River Reach 1 | At the confluence with the Chenango River | None | +898 | Town of Chenango.
| Approximately 1,270 feet upstream of State Route 12 | None | +898
West Branch Delaware River | Approximately 1.8 mile downstream of Hale Eddy Bridge Road | +948 | +953 | Town of Sanford, Village of Deposit.
| Approximately 3,920 feet upstream of Pine Street | +994 | +999
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Binghamton
Maps are available for inspection at City Hall, 38 Hawley Street, Binghamton, NY 13901.
Town of Barker
Maps are available for inspection at the Barker Town Hall, 151 Hyde Street, Castle Creek, NY 13744.
Town of Binghamton
Maps are available for inspection at the Binghamton Town Hall, 279 Park Avenue, Binghamton, NY 13903.
Town of Chenango
Maps are available for inspection at the Chenango Town Hall, 1529 State Route 12, Binghamton, NY 13901.
Town of Colesville
Maps are available for inspection at the Colesville Town Hall, 780 Welton Street, Harpursville, NY 13787.
Town of Conklin
Maps are available for inspection at the Town Hall, 1271 Conklin Road, Conklin, NY 13748.
Town of Dickinson
Maps are available for inspection at the Dickinson Town Hall, 531 Old Front Street, Binghamton, NY 13905.
Town of Fenton
Maps are available for inspection at the Fenton Town Hall, 44 Park Street, Port Crane, NY 13833.
Town of Kirkwood
Maps are available for inspection at the Town Hall, 70 Crescent Drive, Kirkwood, NY 13795.
Town of Maine
Maps are available for inspection at the Town Hall, 12 Lewis Street, Maine, NY 13802.
Town of Sanford
Maps are available for inspection at the Sanford Town Hall, 91 2nd Street, Deposit, NY 13754.
Town of Union
Maps are available for inspection at the Union Town Hall, 3111 East Main Street, Endwell, NY 13760.
Town of Vestal
Maps are available for inspection at the Town Hall, 605 Vestal Parkway West, Vestal, NY 13850.
Town of Windsor
Maps are available for inspection at the Windsor Town Hall, 124 Main Street, Windsor, NY 13865.
Village of Deposit
Maps are available for inspection at the Village Hall, 146 Front Street, Deposit, NY 13754.
Village of Endicott
Maps are available for inspection at the Village Office, 1009 East Main Street, Endicott, NY 13760.
Village of Johnson City
Maps are available for inspection at the Village Municipal Office, 243 Main Street, Johnson City, NY 13790.
Village of Port Dickinson
Maps are available for inspection at the Port Dickinson Village Hall, 786 Chenango Street, Binghamton, NY 13901.
Village of Windsor
Maps are available for inspection at the Windsor Village Community House, 107 Main Street, Windsor, NY 13865.

(Catalog of Federal Domestic Assistance No. 97.022, “Flood Insurance.”)

Dated: May 11, 2010.
Sandra K. Knight,
Deputy Federal Insurance and Mitigation Administrator, Mitigation, Department of Homeland Security, Federal Emergency Management Agency.

[FR Doc. 2010-12486 Filed 5-24-10; 8:45 am]

BILLING CODE 9110-12-P